ENVIRONMENTAL PROTECTION AGENCY

[EPA-HQ-SFUND-2012-0578; FRL-9986-38-OEI]

Information Collection Request Submitted to OMB for Review and Approval; Comment Request; Technical Assistance Needs Assessments (TANAs) at Superfund Remedial or Removal Sites (Renewal)

AGENCY: Environmental Protection Agency (EPA).

ACTION: Notice.

SUMMARY: The Environmental Protection Agency (EPA) has submitted an information collection request (ICR), Technical Assistance Needs Assessments (TANAs) at Superfund Remedial or Removal Sites (EPA ICR No. 2470.02, OMB Control No. 2050-0211), to the Office of Management and Budget (OMB) for review and approval in accordance with the Paperwork Reduction Act. This is a proposed extension of the ICR, which is currently approved through November 30, 2018. Public comments were previously requested via the Federal Register on September 19, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 27, 2018.

ADDRESSES: Submit your comments, referencing Docket ID Number EPA-HQ-SFUND-2012-0578, to (1) EPA online using www.regulations.gov (our preferred method), by email to shewack.robert@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Robert Shewack, Office of Site Remediation and Restoration, (OSRR01-5), Environmental Protection Agency, Region 1, 5 Post Office Square, Suite 100, Boston, MA 02109-3912; telephone number: (617) 918-1428; fax number: (617) 918-0428; email address: shewack.robert@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the usage of TANAs with members of the impacted community in order to determine how the community is receiving technical information about a Superfund remedial or removal site; whether the community needs additional assistance in order to understand and respond to site-related technical information; and whether there are organizations in the community that are interested or involved in site-related issues and capable of acting as an appropriate conduit for technical assistance services to the affected community. Given the specific nature of the TANA, 8 to 10 persons are expected be interviewed per site, with an estimated total of 250 persons being interviewed per year (25 sites). Responses to the collection of information are voluntary and the names of respondents will be protected by the Privacy Act. The TANA will help ensure the community's needs for technical assistance are defined as early in the remedial/removal process as possible and enable meaningful community involvement in the Superfund decision-making process. Additionally, the TANA process produces a blueprint for designing a coordinated effort to meet the community's needs for additional technical assistance while minimizing the overlap of services provided.

Form numbers: None.

Respondents/affected entities: Local/state government officials and individual community members who may be impacted by a Superfund site or a removal action lasting 120 days or longer. These community members voluntarily participate in community involvement activities throughout the remedial phase of the Superfund process.

Respondent's obligation to respond: Voluntary.

Estimated number of respondents: 250 (total).

Frequency of response: Once during the remediation of the Site. Each TANA interview is expected to last approximately one hour in duration.

Total estimated burden: 250 hours (per year). Burden is defined at 5 CFR 1320.03(b).

Total estimated cost: $5,812 (per year), includes $0 annualized capital or operation & maintenance costs.

Changes in the estimates: No change in the total estimated respondent burden is expected when compared with the ICR currently approved by OMB.

Courtney Kerwin,
Director, Collection Strategies Division.

[FR Doc. 2018-25779 Filed 11-26-18; 8:45 am]

BILLING CODE 6560-50-P